DEPARTMENT OF JUSTICE

Office of Justice Programs

[OJP (NIJ) Docket No. 1750]

Body Armor Manufacturer Workshop

AGENCY: National Institute of Justice, Justice.

ACTION: Notice.

SUMMARY: The National Institute of Justice (NIJ) is hosting a workshop for body armor manufacturers to provide an overview of draft NIJ Standard 0101.07, Ballistic Resistance of Body Armor, and draft NIJ Specification Threat Levels and Associated Ammunition to Test Equipment Intended to Protect U.S. Law Enforcement Against Handguns and Rifles. A preliminary outline of how the NIJ Compliance Testing Program (CTP), which manages conformity assessment of body armor, will begin to phase out use of NIJ Standard 0101.06 and phase in the use of NIJ Standard 0101.07 in the administration of the program over approximately the next year will be presented. The impact of the transition on the Compliant Products List (CPL) and Follow-up Inspection Testing (FIT) of listed body armor models compliant with NIJ Standard 0101.06 over a longer period of time will also be discussed.

This will be an open forum and there will opportunities for attendees to ask questions. Space is limited at this workshop, and as a result, only 100 participants will be allowed to register. NIJ requests that each manufacturer limit their representatives to no more than two per organization. Exceptions to this limit may occur, should space allow. Participants planning to attend are responsible for their own travel arrangements. To register for the workshop, please send an email to bactp@justnet.org by 5:00 p.m. Eastern time on September 7, 2018, and provide the name of your company and the names of the representatives who will attend. A preliminary agenda will be sent to registered attendees approximately one week prior to the workshop.

DATES: The workshop will be held on Wednesday, September 19, 2018 from 8:30 a.m. to 5:00 p.m. Eastern time.

ADDRESSES: The workshop will be held at the Loews Annapolis Hotel, 126 West St., Annapolis, MD 21401.

FOR FURTHER INFORMATION CONTACT: Mark Greene, Policy and Standards Division Director, Office of Science and Technology, National Institute of Justice, 810 7th Street NW, Washington, DC 20531; telephone number: (202) 307-3384; email address: mark.greene2@usdoj.gov.

SUPPLEMENTARY INFORMATION: NIJ Standard 0101.07—the proposed revision of NIJ Standard 0101.06, Ballistic Resistance of Body Armor—specifies minimum performance requirements and test methods for the ballistic resistance of body armor used by U.S. law enforcement that is intended to protect the torso against handgun and rifle ammunition. A request for public comment was published in the Federal Register on February 22, 2018 (https://www.federalregister.gov/d/2018-03674). The proposed specification Threat Levels and Associated Ammunition to Test Equipment Intended to Protect U.S. Law Enforcement Against Handguns and Rifles defines ballistic threats identified by U.S. law enforcement as representative of prevalent threats in the United States. A request for public comment was published in the Federal Register on February 22, 2018 (https://www.federalregister.gov/d/2018-03672).

David B. Muhlhausen,
Director, National Institute of Justice.

[FR Doc. 2018-17466 Filed 8-14-18; 8:45 am]

BILLING CODE 4410-18-P